DEPARTMENT OF TRANSPORTATION

National Highway Traffic Safety Administration

49 CFR Part 571

[Docket No. NHTSA-2024-0058]

RIN 2127-AM64

Federal Motor Vehicle Safety Standards; FMVSS No. 213, “Child Restraint Systems,” FMVSS No. 213a, “Child Restraint Systems—Side Impact Protection,” and FMVSS No. 213b, “Child Restraint Systems”—Response to Petitions for Reconsideration

AGENCY: National Highway Traffic Safety Administration (NHTSA), Department of Transportation (DOT).

ACTION: Final rule; response to petitions for reconsideration.

SUMMARY: This final rule responds to petitions for reconsideration of the June 2022 final rule establishing Federal Motor Vehicle Safety Standard (FMVSS) No. 213a and the December 2023 final rule establishing FMVSS No. 213b. This final rule grants petitions to incorporate a dummy positioning procedure for shield-type child restraint systems (CRSs), clarify test procedure for CRSs with certain types of side impact technologies, remove testing CRSs installed with lap belt only in frontal sled tests, and correct inconsistencies in the regulatory text and figures in FMVSS Nos. 213a and 213b. This final rule also partially grants the petition to align compliance dates between the standards. All other requests are denied.

DATES:

Effective date: November 8, 2024.

Reconsideration date: If you wish to petition for reconsideration of this rule, your petition must be received by November 25, 2024.

ADDRESSES: Petitions for reconsideration of this final rule must refer to the docket and notice number set forth above and be submitted to the Administrator, National Highway Traffic Safety Administration, 1200 New Jersey Avenue SE, Washington, DC 20590. Note that all petitions received will be posted without change to https://www.regulations.gov, including any personal information provided.

Confidential Business Information: If you wish to submit any information under a claim of confidentiality, you should submit your complete submission, including the information you claim to be confidential business information, to the Chief Counsel, NHTSA, at the address given under FOR FURTHER INFORMATION CONTACT. In addition, you should submit a copy, from which you have deleted the claimed confidential business information, to Docket Management at the address given above. When you send a submission containing information claimed to be confidential business information, you should include a cover letter setting forth the information specified in our confidential business information regulation (49 CFR part 512). Please see further information in the Regulatory Notices and Analyses section of this preamble.

Privacy Act: The petition will be placed in the docket. Anyone can search the electronic form of all documents received into any of our dockets by the name of the individual submitting the comment (or signing the comment, if submitted on behalf of an association, business, labor union, etc.). You may review DOT's complete Privacy Act Statement in the Federal Register published on April 11, 2000 (Volume 65, Number 70; Pages 19477-78) or you may visit https://www.transportation.gov/individuals/privacy/privacy-act-system-records-notices.

Docket: For access to the docket to read background documents, go to www.regulations.gov, or the street address listed above. Follow the online instructions for accessing the dockets.

FOR FURTHER INFORMATION CONTACT: For technical issues, you may call Cristina Echemendia, Office of Crashworthiness Standards (telephone: (202) 366-6345). For legal issues, you may call Matthew Filpi, Office of Chief Counsel (telephone: (202) 366-2992). Address: National Highway Traffic Safety Administration, U.S. Department of Transportation, 1200 New Jersey Avenue SE, West Building, Washington, DC 20590.

SUPPLEMENTARY INFORMATION:

I. Executive Summary

II. Petitions for Reconsideration (FMVSS No. 213a) and Agency Response

a. Dynamic Test Procedure for CRSs With Fixed, Adjustable and Configurable Side Impact Technologies

b. Arm Positioning for CRSs With a Fixed or Movable Surface To Restrain the Child in FMVSS No. 213a

c. Side Impact Seat Assembly Mounting Angle Tolerance Correction

d. Fix Inconsistent Units for Radius and Protrusion Limits in FMVSS Nos. 213, 213a and 213b

e. Removing “At NHTSA's Option” Phrase in S6.1.2

f. Removing 45 Degree CRS Angle at Completion of Test Requirement

g. Correcting Error on Table 1 to S5.1.6

h. Clarifications

III. Petitions for Reconsideration (FMVSS Nos. 213 and 213b) and Agency Response

a. Aligning Compliance Dates

b. Removing Type 1 Seat Belt Testing or Changing Sunset Date

c. Unit Conversion Consistency

d. Remove Duplicative Language

e. Registration Card Guidelines

IV. Correction to Regulatory Text

V. Costs and Benefits

VI. Compliance Date and Effective Date

VII. Regulatory Analyses and Notices

I. Executive Summary

On June 30, 2022, NHTSA published a final rule (side impact final rule) (87 FR 39234) amending FMVSS No. 213, “Child restraint systems,” to establish side impact performance requirements for CRSs designed to seat children weighing up to 18.1 kilograms (kg) (40 pounds (lbs)), or for children in a height range that includes heights up to 1100 millimeters (43.3 inches). The side impact performance requirements were established in the new FMVSS No. 213a, “Child restraint systems—side impact protection,” which is referenced by Standard No. 213.

On December 5, 2023, NHTSA published a final rule (frontal test upgrade final rule) (88 FR 84514) amending FMVSS No. 213 and adding FMVSS No. 213b, “Child restraint systems.” The amendments to FMVSS No. 213 modernize the standard by updating the CRS owner registration program, labeling requirements instructing consumers on correct use of child restraints, requirements for add-on school bus-specific child restraint systems, and provisions for NHTSA's use of test dummies in NHTSA compliance tests. The establishment of FMVSS No. 213b will update the standard seat assembly on which NHTSA tests child restraint systems for compliance with frontal crash performance requirements.

NHTSA received petitions for reconsideration of the side impact final rule,¹ from Columbus Trading-Partners USA, Inc. (Cybex products distributor) and Evenflo (Goodbaby International subsidiary) Inc. (Evenflo). NHTSA received petitions for reconsideration ² of the frontal test upgrade final rule from Juvenile Products Manufacturers Association (JPMA) and Evenflo.

¹ Petitions have been docketed here: https://www.regulations.gov/document/NHTSA-2022-0051-0004.

² Petitions have been docketed here: https://www.regulations.gov/document/NHTSA-2023-0040-0003.

The petitioners to the side impact final rule requested clarifications on dummy positioning test procedures for shield-type CRSs and on test procedures for CRSs that have adjustable and configurable technologies for side impact. The petitioners also requested minor corrections to the regulatory text of the adopted standard. NHTSA is granting the petitions to incorporate a dummy positioning procedure for shield-type CRSs, correct inconsistencies in the side impact seat assembly mounting angle tolerances in the regulatory text and figures, and correct inconsistent units between the standards. NHTSA is denying the remaining requests from the two petitioners.

The petitioners to the frontal test upgrade final rule requested the following: (1) consolidations of the compliance dates ³ of FMVSS Nos. 213, 213a and 213b, (2) removal of tests with CRS installation using Type 1 seat belt or an earlier sunset date for testing CRSs installed with the Type 1 seat belt, (3) minor corrections to the regulatory text of the adopted standards, and, (4) guidance on the new requirements for the registration card. NHTSA is partially granting the request to align the compliance dates and granting the request to remove Type 1 seat belt testing. NHTSA is also making minor corrections to the regulatory text identified by the petitioners. The agency is denying the request for rulemaking to provide guidance on the new registration card requirements.

³ The compliance date is the date that the applicable products must comply with the rule.

II. Petitions for Reconsideration (FMVSS No. 213a) and Agency Responses

a. Dynamic Test Procedure for CRSs With Fixed, Adjustable, and Configurable Side Impact Technologies

Cybex requested NHTSA clarify how fixed, adjustable, and configurable side impact technologies will be tested in future annual compliance test programs. Cybex explained that previous NHTSA interpretations have deemed “belt tensioning bars, additional straps and support legs” as supplemental devices. Cybex further noted that supplemental devices are not used during compliance testing per the specifications in S6.1.2 of FMVSS No. 213 that no supplemental devices be used to install CRSs.

Cybex explained that neither the dynamic test procedure nor past interpretations Cybex reviewed provide guidance on other aspects of adjusting or use of a child restraint beyond S6.1.2. This section of the standard requires CRS installation in accordance with manufacturer's instructions provided with the CRS.

Cybex asked NHTSA for clarification on (1) whether an adjustment specified in the manufacturer's instruction is allowed to be made prior to or after securing the CRS to the side impact seat assembly (SISA), and (2) whether an adjustment of a technology that is part of the CRS is allowed to be made prior to testing according to this supplemental device requirement.

Agency Response: NHTSA is denying Cybex's petition to provide informal guidance on the testing procedure outlined in FMVSS No. 213a. Under 49 CFR 553.35, petitions for reconsideration must contain a brief statement of the complaint and an explanation why compliance with the rule is not practicable, is unreasonable, or is not in the public interest. We do not believe that Cybex has met its burden of explaining why the FMVSS No. 213a test procedure is not practicable, is unreasonable, or is not in the public interest. Instead, Cybex's petition simply requests guidance on how NHTSA would test CRSs under FMVSS No. 213a. NHTSA does not provide informal guidance in responses to petitions for reconsideration.

Although we will not be providing guidance on how FMVSS No. 213a's test procedures apply to the adjustable side impact technology discussed by Cybex, we do think this issue is worth addressing. Instead of addressing it here in the form of guidance, we plan to initiate a rulemaking on this issue. FMVSS No. 213a is new requirement that does not take effect until June of 2025. Accordingly, when NHTSA published its Notice of Proposed Rulemaking (NPRM) in 2014 proposing side impact protection requirements for child restraint systems, the agency could not predict how child restraint manufacturers would choose to comply with the standard. Additionally, no commenters discussed this technology during the NPRM stage. NHTSA conducted rigorous testing to ensure that the requirements of FMVSS No. 213a were practicable, but as is the case with many of our standards, manufacturers innovate to meet the requirements of our standards. This is the case with the adjustable side impact technology Cybex discusses in its petition for reconsideration. Accordingly, the agency could not have considered how to test with this technology since it did not exist when the requirements were proposed and how popular these designs would become.

Because the agency has limited test experience with adjustable side impact technology, we cannot yet speak to any safety benefits associated with it. The agency plans to continue its research and testing to determine if and how FMVSS No. 213a should be amended to accommodate for this technology. The agency also plans to consider potential misuse and how restraints with this technology perform under the test procedures outlined in FMVSS No. 213a with and without the technology deployed.

For the reasons discussed above, NHTSA is denying Cybex's request to provide guidance on how FMVSS No. 213a's test procedures apply to deployable side impact technology.

b. Arm Positioning for CRSs With a Fixed or Movable Surface To Restrain the Child in FMVSS No. 213a

Cybex noted that the current FMVSS No. 213 allows the use of a forward restraining surface (e.g., shield) in lieu of a harness. However, Cybex states the side impact final rule did not consider CRSs that use a forward restraining surface. Cybex argued that the 25-degree dummy arm positioning required in the new FMVSS No. 213a standard could not be met in forward facing CRSs with restraining surfaces. Accordingly, Cybex requested clarification regarding test dummy arm positioning for CRSs with restraining surfaces. Cybex also asked whether placing the dummy's arm above the forward restraining surface would be considered as “inhibiting the torso or head movement.” Cybex noted that if this interaction is considered as “inhibiting the torso or head movement,” it requested clarification on the allowable limb position.⁴

⁴ Cybex provided a picture of a shield-type CRS with a dummy to exemplify. The petition can be found at Docket No. NHTSA-2022-0051-0004.

Agency Response: NHTSA is granting Cybex's request to specify arm placement in FMVSS No. 213a testing for shield-type CRSs where the arm cannot be placed at a 25-degree angle. As background, FMVSS No. 213a specifies a procedure in S9.2(d) and S9.3(d) to position the Q3s dummy's arm in CRSs that can be used forward-facing and/or rear-facing. The arm is rotated downwards in the plane parallel to the dummy's midsagittal plane until the arm engages the Q3s detent that positions the arm at a 25-degree angle with respect to the thorax. However, some CRS designs equipped with a fixed or movable surface ⁵ that restrain the dummy ⁶ may prevent the arm from engaging the detent to position the arm at a 25-degree angle with respect to the thorax.

⁵ Fixed or movable CRS surfaces are described in S5.2.2.2 of FMVSS No. 213 and S5.2.2.2 of FMVSS No. 213b.

⁶ There are no CRSs with a fixed or movable surface that restrain the child in the U.S. market currently.

Section 10.2.2(d) of FMVSS Nos. 213 and 213b specifies positioning the arm of dummies by rotating the limb downwards in the plane parallel to the dummy's midsagittal plane until the limb contacts a surface of the CRS or the standard seat assembly. This test procedure applies to all the dummies used in FMVSS Nos. 213 and 213b. The procedure provides for consistent positioning of the dummy's arms for all CRSs, including the ones equipped with a fixed or movable surface that restrain the child in FMVSS No. 213.

In response to Cybex's petition, NHTSA is specifying use of the FMVSS Nos. 213 and 213b arm positioning procedure for the Q3s dummy in FMVSS No. 213a for those CRSs equipped with a fixed or movable surface that restrain the child and in which the specified 25-degree arm angle cannot be reached. The 25-degree angle is specified for side impact testing, positioning the arm to expose the thorax to directly contact the intruding door or CRS side structure. This arm positioning procedure produces a more repeatable test. Utilizing the FMVSS Nos. 213 and 213b arm positioning procedure for positioning the Q3s dummy in FMVSS No. 213a will still achieve NHTSA's goal to position the arm in a manner that exposes the thorax so that it directly contacts the intruding door or CRS side structure during 213a testing. An arm positioned at a 25-degree angle or (slightly) higher would likely not be considered to “inhibit the torso or head movement.” ⁷

⁷ If the CRS design results in a Q3s dummy arm position high enough that it interacts with the head (inhibiting head movement) during testing, the CRS design may need to be changed to prevent this from happening. NHTSA does not expect the arm position to be high enough to interact with the dummy's head in known shield-type CRSs. But NHTSA will evaluate this issue on a case-by-case basis.

c. Side Impact Seat Assembly Mounting Angle Tolerance Correction

FMVSS No. 213a adopted requirements to attach the SISA to the sled test platform so the Seat Orientation Reference Line (SORL) ⁸ of the seat is at a 10-degree angle counter-clockwise from the perpendicular to the travel direction of the test platform. Evenflo noted that the regulatory text has a discrepancy in the angle tolerance specified in S6.1.1(a)(1) and Figure 2A. Section 6.1.1(a)(1) specifies the SISA is mounted on a dynamic test platform so that the SORL is 10 ±0.1 degrees from the perpendicular direction of the test platform travel. Figure 2A specifies this angle to be 10 ±1 degrees. Evenflo requested clarification on the discrepancy between the text and the drawing.

⁸ Seat orientation reference line or SORL means the horizontal line through Point Z as illustrated in Figure 1 to § 571.213a.

Agency Response: The ±0.1 tolerance of the SISA mounting angle specified in S6.1.1(a)(1) is incorrect. NHTSA is granting Evenflo's petition to correct the discrepancy in the mounting angle tolerance between S6.1.1(a)(1) and Figure 2A. NHTSA is specifying the correct tolerance in S6.1.1(a)(1) so that it indicates an angle of 10 ±1 degrees, making it consistent with Figure 2A.

d. Fix Inconsistent Units for Radius and Protrusion Limits in FMVSS Nos. 213, 213b and 213a

Evenflo requested NHTSA specify the protrusion dimensions requirements existing in both FMVSS No. 213 and 213a in the same units. Evenflo noted that FMVSS No. 213 uses inches while FMVSS No. 213a uses millimeters. Evenflo argued that this discrepancy can lead to confusion in application and interpretation of the standard.

Agency Response: NHTSA agrees that the units for the same protrusion dimension requirements should be the same in FMVSS Nos. 213 (S5.1.1(a) and S5.2.4), 213a (S5.1.1(a) and S5.1.4) and 213b (S5.1.1(a) and S5.2.4). NHTSA is granting this petition and will change the units of FMVSS No. 213 and 213b to millimeters to be consistent with FMVSS No. 213a.

e. Removing “at NHTSA's Option” Phrase in S6.1.2

Evenflo sought clarification regarding the phrase “at NHTSA's option” in the FMVSS No. 213b Dynamic Test Procedure section (S6.1.2). Evenflo explained that the section is followed by test procedures with each of the attachment methods. Evenflo added that none of the attachments are optional for a manufacturer when it is certifying compliance with FMVSS Nos. 213 and 213a. Evenflo argued that if “at NHTSA's option” refers to test options available to NHTSA as part of its annual test compliance program, then the language is more appropriate for test procedures and not in the regulation.

Agency Response: NHTSA is denying Evenflo's petition to remove the phrase “at NHTSA's option” from the regulatory text. This phrase is included to make clear that NHTSA may conduct the compliance test with a CRS attached in any or all of its attachment modes. NHTSA notes that the agency's safety standards specify the test conditions and procedures that the agency will use to evaluate the performance of the vehicle or equipment (such as CRSs) being tested for compliance to the safety standard. While manufacturers are required to certify their products meet the requirements of FMVSS No. 213 when tested in accordance with the standard and exercise due care in doing so, they are not specifically required to test their CRSs the way NHTSA tests child restraints in a compliance test.

f. Removing 45 Degrees CRS Angle at Completion of Test Requirement

Evenflo questioned whether the requirement in S5.1.1 (c) that does not allow the angle between the system's back support for the child and the system's seating surface to be less than 45 degrees at the completion of the test is needed as it is already required in the FMVSS No. 213 frontal dynamic test. Evenflo also argued that that the frontal force (fore/aft vehicle direction) component ⁹ in the side impact test is small compared to the side (lateral vehicle direction) component, and, small compared to the frontal component of the frontal crash in FMVSS No. 213.

⁹ The sled test forces acting upon a CRS can be represented as a 3-dimentional force vector. The portion of that force vector that is parallel to the fore/aft (frontal) “vehicle” direction is the frontal component of the force vector. The FMVSS No. 213a sliding seat test fixture (representing the vehicle seat) is at a 10 degree angle to the sled's direction of travel during the test. Defining test forces based upon a coordinate system fixed to the seat fixture, there are frontal, lateral, and vertical components to the forces.

Agency Response: NHTSA is denying this petition, and will retain the S5.1.1 (c) requirement. While the side impact test has a small longitudinal component, NHTSA believes this requirement will ensure CRS integrity in a broader range of crash environments. While the agency has not seen any CRSs fail to meet this requirement during our testing, the CRS market is constantly evolving, with manufacturers introducing new designs into the market every year. This requirement will ensure that future designs perform adequately in a side impact crash as well as a frontal crash.

g. Correcting Error on Table 1 in Paragraph S5.1.6

Evenflo commented that Table 1 in paragraph S5.1.6 (installation) does not match the means of installation indicated in S6.1.2.

Agency Response: After reviewing the table example Evenflo showed in its petition, we note that the table in Evenflo's petition was taken from the web version of the June 2022 final rule in the docket system,¹⁰ and the web version had a formatting error. However, the June 2022 final rule in the Federal Register ¹¹ and the electronic Code of Federal Regulations ¹² display the correct table. Since receiving Evenflo's comment, the docket system has corrected the table formatting and now displays the correct table.

¹⁰ www.regulations.gov.

¹¹ Web Version: https://www.federalregister.gov/documents/2022/06/30/2022-13658/federal-motor-vehicle-safety-standards-child-restraint-systems-child-restraint-systems-side-impact PDF Version: https://www.govinfo.gov/content/pkg/FR-2022-06-30/pdf/2022-13658.pdf.

¹² Link to the electronic code of federal regulations: https://www.ecfr.gov/current/title-49/subtitle-B/chapter-V/part-571/subpart-B/section-571.213a.

h. Clarifications

Evenflo requested several clarifications regarding the contactable surfaces and protrusion limitation requirements. These clarification requests included:

(1) If materials such as soft goods, padding, energy absorbing materials or elements, or flexible materials are permanently affixed to another component, whether the underlying component is considered contactable.

(2) Whether the portion of the shell that is adjacent to the headrest is considered contactable in CRSs with an adjustable headrest.

(3) Whether a contactable surface varies based on the size of the test dummy or associated with the largest dummy for a given use configuration.

(4) Whether energy absorbing materials integrated to the system's structures are considered padding and flexible overlay materials and whether they would be removed prior to inspection.

(5) Whether energy absorbing material that is attached with mechanical fasteners (push pins, tape or glue, etc.) is considered padding or part of the structure to be evaluated for the protrusion limitations.

Agency Response: NHTSA is denying Evenflo's clarifications request. The protrusion limitation requirements in question are not specific to FMVSS No. 213a and have been present in FMVSS No. 213 (S5.2.4) since 1979. The 2014 NPRM proposing the side impact requirements for FMVSS No. 213 (79FR4570) proposed the same existing protrusion limitation requirements. There have been no changes to the protrusion limitation requirements and NHTSA did not receive comments regarding the existing protrusion limitation requirements in the 2014 NPRM proposing side impact requirements for CRS. This requirement was also unchanged during the frontal test upgrade rulemaking, as no proposed changes or comments were received during that rulemaking either. Therefore, this request is out of scope for a petition for reconsideration.

III. Petitions for Reconsideration (FMVSS Nos. 213 and 213b) and Agency Response

a. Aligning Compliance Dates

One petitioner, JPMA, urged NHTSA to align the required compliance dates for FMVSS No, 213 (December 5, 2024), FMVSS No. 213a (June 30, 2025) and FMVSS No. 213b (December 5, 2026) to avoid unnecessary costs. JPMA argued that the current compliance schedule would result in duplicative efforts regarding “instruction and label revisions, tooling modifications, model testing and certification processes, marketing materials and more, adding unnecessary costs and challenges.” JPMA explained that every modification triggers a change to the Universal Product Code. JPMA stated that such a change results in product histories and customer reviews starting over for new products, which reduces consumer confidence in established products and brands. JPMA stated that these changes also disrupt retailer relationships with changing product models that sometimes result in buybacks of older versions of the products.

JPMA suggested that the compliance date for the changes to the three standards be aligned with the FMVSS No. 213b compliance date (December 5, 2026) to avoid any unnecessary burdens and to minimize costs for manufacturers. As an alternative, JPMA suggested aligning the labeling changes of FMVSS No. 213 and the side impact requirements in FMVSS No. 213a to a December 5, 2025, compliance date. JPMA explained that this date is favorable for the manufacturers to avoid challenges of midyear product changes and would allow them five additional months to work on the new FMVSS No. 213a side impact requirements.

Agency Response: NHTSA is partially granting JPMA's petition to align the FMVSS Nos. 213, 213a and 213b compliance dates. In the side impact final rule, we discussed that the agency did not see a reason to delay the compliance date of FMVSS No. 213a, or to shorten the lead time for FMVSS No. 213b. The agency explained that making the compliance dates of the two rules coincide had some merit but the consequences of aligning the compliance date of FMVSS No. 213a with that of FMVSS No. 213b would delay the significant safety benefits ¹³ of side impact protection and thereby outweigh any such merit.

¹³ The FMVSS No. 213a side impact final rule calculated an annual reduction of 3.7 fatalities and 41 serious non-fatal injuries.

With the option for early compliance, manufacturers have flexibility in deciding when to meet these updated standards. FMVSS No. 213b test results showed that some current CRS designs already meet performance requirements using the new sled text fixture. CRS manufacturers will have an opportunity for early compliance for their CRS models that need no change or only need small design changes, and if desired, to voluntarily comply with the FMVSS No. 213b requirements by the June 30, 2025, compliance date of FMVSS No. 213a to reduce their burden.

To alleviate some of JPMA's concerns on duplicative efforts due to the different compliance dates, we are aligning the updates to FMVSS No. 213 from the frontal test upgrade final rule and the side impact final rule to a single compliance date of June 30, 2025. This action partially grants JPMA's petition. The compliance date alignment will reduce unnecessary burdens through minimization of costs to manufacturers caused by multiple model number changes for a particular CRS design in a short period of time. This change provides an additional 6-7 months for manufacturers to align their labeling and registration card designs and launch them together along with the side impact changes.

One of JPMA's requests was to align the FMVSS No. 213 and FMVSS No. 213a compliance dates to the December 5, 2025, compliance date for FMVSS No. 213b. As noted earlier, delaying the compliance date of FMVSS No. 213a would delay the significant safety benefits from improved side impact protection afforded to children seated in applicable CRSs. Additionally, delaying the FMVSS No. 213 labeling and registration card changes that were finalized in the December 5, 2023 frontal test upgrade final rule notice by an additional year (December 5, 2025) would delay the safety benefits garnered from these updates.¹⁴ NHTSA is granting a little over 6 months delay in requiring compliance with the labeling and registration updates to reduce manufacturer's burden of introducing products to the market multiple times. NHTSA believes this approach reduces burden to manufacturers without significantly impacting the realization of benefits from the updated labeling requirements and does not see need to further delay the benefits. Therefore, NHTSA is denying the petition to align the FMVSS Nos. 213 and 213a compliance date to December 2025.

¹⁴ NHTSA estimated potentially 0.7 to 2.3 lives will be saved and 1.0 to 3.5 moderate-to-critical severity injuries prevented annually when all CRSs in the fleet have the updated labels.

b. Removing Type 1 Seat Belt Testing or Changing Sunset Date

JPMA expressed concerns with retaining Type 1 belt testing until 2029 without the opportunity for regulatory comment. JPMA claimed that the testing is duplicative considering that CRSs would already be tested with lower anchors and Type 2 belts. JPMA added that NHTSA should consider the time for product validation required by the other changes to FMVSS Nos. 213, 213a and 213b that will require new full evaluations and would delay development of future CRS models.

JPMA argued that the data presented in the side impact final rule where NHTSA estimated “36% of the 2022 light duty vehicle fleet are of model years (MY) 2000-2007 that do not have Type 2 belts in all rear seating positions” is faulty. JPMA noted that in a 2004 final rule (69 FR 70904) amending FMVSS No. 208, “Occupant crash protection,” the agency stated that approximately 77% of the passenger car fleet and 49% of the light truck and van (LTV) fleet had Type 2 belts in the rear center seat. JPMA argued that the data presented showed the sunset date of September 1, 2029, to remove Type 1 seat belt testing, exceeds the objective stated in the final rule of 90 percent of vehicle having Type 2 belts in the rear center seat.

JPMA urged NHTSA to remove the unnecessarily duplicative testing with Type 1 belts to move towards NHTSA's stated goal of encouraging future CRS designs that take advantage of the shoulder belt portion of the seat belt to reduce excursions or to recalculate the sunset date based on more complete vehicle data.

Agency Response: NHTSA is granting JPMA's petition to remove Type 1 seat belt CRS (other than harnesses) ¹⁵ installation testing in FMVSS No. 213b. Additionally, NHTSA has decided to amend a labeling requirement relating to Type 1 seat belts in FMVSS No. 213 as part of the agency's response to this petition.

¹⁵ Per the December 5, 2023 final rule, harnesses will continue to be tested only with a Type 1 belt. Type 1 belt installation testing for harnesses was not meant to sunset in the final rule.

i. Removing Type 1 seat belt CRS installation testing from FMVSS No. 213b. While JPMA pointed to a 2004 final rule (69 FR 70904) where NHTSA indicated that “approximately 77% of the passenger car fleet and 49% of the light truck and van (LTV) fleet had Type 2 belts in the rear center seat,” JPMA is incorrect in its understanding of that data. We note that this percentage did not reflect the vehicle fleet at the time but instead referred to the percentage of vehicles that provided Type 2 seat belts in model year (MY) 2000 vehicles.¹⁶ However, NHTSA recognizes that the estimates from the December 2023 final rule do not take into account vehicles older than MY 2008 that voluntarily provided Type 2 seat belts; therefore, the agency acknowledges that the estimates of Type 1 availability in the fleet (36 percent) should be reevaluated.

¹⁶ This is analysis explained in the Final Economic Assessment of the 2004 final rule. https://www.regulations.gov/document/NHTSA-2004-18726-0002.

To more accurately calculate the percentage of vehicles in the fleet without Type 2 seat belts, NHTSA calculated this percentage with estimates that include the percentages of vehicles that voluntarily provided Type 2 seat belts in vehicles older than MY 2008 to decide whether the sunset of Type 1 seat belt CRS installation testing should be changed. Model year 2008 vehicles or newer are required to have Type 2 belts in rear center seats, so there would be no Type 1 seat belts in the rear center seating position for those vehicles.

NHTSA used a 2015 study ¹⁷ for estimated percentages of vehicles older than MY 2008 with rear center Type 1 seat belts. The study determined 59.9 percent of cars and 71.7 percent of light trucks and vans (LTVs) for MY 2007 and earlier had rear center Type 1 seat belts. NHTSA multiplied those shares by the 2022 total vehicle registrations ¹⁸ to estimate the percentage of vehicles that have Type 1 belts in rear center seating positions. NHTSA estimated that 15 percent of the light duty fleet in 2022 had rear center Type 1 seat belts. NHTSA then applied vehicle survivability schedules to estimate future fleet estimates of vehicles with rear center Type 1 seat belts. Estimates show that in 2026, only 9 percent of vehicles in the fleet are expected to have rear center lap belts.

¹⁷ Kahane, C.J., National Highway Traffic Safety Administration, “Lives saved by vehicle safety technologies and associated Federal Motor Vehicle Safety Standards, 1960 to 2012—Passenger cars and LTVs—With reviews of 26 FMVSS and the effectiveness of their associated safety technologies in reducing fatalities, injuries, and crashes” (report No. DOT HS 812 069) (Jan. 2015). Washington, DC: National Highway Traffic Safety Administration. https://crashstats.nhtsa.dot.gov/Api/Public/ViewPublication/812069.

¹⁸ Vehicle registration data for passenger vehicles (cars and light trucks) were obtained from R.L. Polk's National Vehicle Population Profile (NVPP). The Polk data set is a compilation of all passenger vehicles that have been registered in compliance with State requirements. (R.L. Polk is a foundation of IHS Markit automotive solutions.)

Table 1—Rear Center Type 1 Seat Belt Availability in the Vehicle Fleet by Year
Year | Rear center lap belt share (%)
2022 | 15.0
2023 | 13.4
2024 | 11.8
2025 | 10.3
2026 | 9.0

In the side impact final rule, NHTSA noted that CRS testing with Type 1 seat belt attachment would end when 90 percent of the fleet consists of vehicles with Type 2 seat belts at all rear seating positions.¹⁹ The new estimates show that by the time FMVSS No. 213b becomes mandatory on December 5, 2026, the vehicle fleet would already have 91 percent of vehicles with Type 2 seat belts in all rear seating positions. Therefore, the agency is removing the requirements from FMVSS No. 213b to test CRSs (other than harnesses) with Type 1 seat belt installations. If a manufacturer chooses to comply early with FMVSS No. 213b for a CRS model, that CRS model would not have to be tested with Type 1 seat belt installation.²⁰

¹⁹ NHTSA stated in the December 2023 final rule that Type 1 seat belt installation tests become less necessary for safety with the continued reduction of the share of older vehicles (older than 2008 MY) having Type 1 belts. The Type 1 seat belt installation tests may be preventing CRS manufacturers from designing lap-shoulder belt paths that may function as a tether. This pseudo-tether would reduce a child's head excursions, reducing injury severities and lowering the fatality risk for a larger portion of the market. Therefore, ending Type 1 seat belt installation tests when 90% of the fleet have Type 2 seat belts at all rear seating positions serves a good balance to further improve child safety.

²⁰ NHTSA expects that if a CRS manufacturer chooses early compliance with FMVSS No. 213b, it would align to the FMVSS No. 213a compliance date (June 2025). For those models, Type 1 seat belt installation would no longer be evaluated. Given the new calculated estimates, the fleet with vehicles having Type 1 seat belts will have reached 10.3%, which is only slightly above the 10% target in the December 2023 final rule. Not all CRS manufacturers will choose to comply early so NHTSA believes this 10.3% is acceptable as this number will continue to decline as 2026 approaches.

ii. Restoring Type 1 seat belt labeling requirements in FMVSS No. 213. In addition to granting JPMA's petition above, NHTSA has also decided to amend FMVSS No. 213's labeling requirements relating to Type 1 seat belts. Specifically, NHTSA is restoring paragraph S5.5.2(l)(2) to its prior version, before the frontal test upgrade final rule was issued.

Before the frontal test upgrade final rule, paragraph S5.5.2(l)(2) required that CRSs have an installation diagram attached to the CRS showing the CRS installed with a Type 1 seat belt. During the process of amending the regulatory text for FMVSS No. 213 as part of the frontal test upgrade final rule, the agency deleted this requirement, making it so paragraph S5.5.2(l)(2) simply read “[Reserved].” Because the agency has decided to amend the lap belt requirements in FMVSS No. 213b as part of this petition for reconsideration response, but has not applied that same amendment to FMVSS No. 213, CRSs certified to FMVSS No. 213 up until 2026 will still have to be certified with Type 1 belts. Accordingly, the agency feels it is necessary for CRSs certified to FMVSS No. 213 to have a label attached showing a diagram of the CRS installed with a Type 1 belt. For the reasons discussed above, the agency will be restoring this requirement in paragraph S5.5.2(l)(2) of FMVSS No. 213 as part of this final rule.

c. Unit Conversion Consistency

JPMA and Evenflo requested that FMVSS Nos. 213 and 213b have a consistent metric conversion number for standards that specify 40-pounds, as currently the standards specify 18 kg, 18.2 kg, and 18.4 kg in various places. JPMA and Evenflo encouraged a rounded 18 kg conversion even though it is not an exact conversion. Evenflo noted that the FMVSS No. 213 regulation has long used 18 kg as the equivalent to 40 pounds in labeling requirements. As an alternative, the petitioners suggested using a more exact conversion (rounding to a single decimal place) of 18.1 kg.

Agency Response: NHTSA has reviewed the regulatory text sections with inconsistent conversions from 40 pounds to kilograms. NHTSA agrees that having a single conversion throughout the three standards is preferable. Therefore, NHTSA is granting this petition and is amending the regulatory text of FMVSS No. 213 and FMVSS No. 213b to have an 18 kg value for the 40-pound conversion throughout the standards. As Evenflo pointed out, NHTSA has used this conversion in the current FMVSS No. 213 regulatory text. Accordingly, the agency agrees that amendments to FMVSS No. 213 and 213b should use the same conversion.

d. Remove Duplicative Language

Evenflo requested removing duplicative language. Evenflo noted that S5 of FMVSS No. 213b has duplicative language in different subparagraphs (S5(b)(2) ²¹ and S5(g)) ²² which creates ambiguity with respect to what is intended and particularly as to whether there is any substantive difference in the two provisions.

²¹ S5(b)(2) states “each add-on child restraint system manufactured for use in motor vehicles, that is recommended for children in a weight range that includes weights up to 18 kilograms (40 pounds) regardless of height, or for children in a height range that includes heights up to 1100 millimeters (mm) regardless of weight, shall meet the requirements in this standard and the applicable side impact protection requirements in Standard No. 213a (§ 571.213a).”

²² S5(g) states “Each add-on child restraint system manufactured for use in motor vehicles, that is recommended for children in a weight range that includes weights less than 18 kilograms (40 pounds) regardless of height, or for children in a height range that includes heights less than 1100 millimeters regardless of weight, shall meet the requirements in this standard and the applicable side impact protection requirements in Standard No. 213a (§ 571.213a).”

Evenflo also explained that given the discussion in Section XI(h) of the Preamble to the December 2023 Final Rule (88 FR 84514), Evenflo understands that the meaning of “up to 18 kilograms (40 pounds)” is substantively synonymous with “less than 18 Kilograms (40 pounds).

Agency Response: NHTSA is granting Evenflo's petition to remove duplicative language in S5(b)(2) and S5(g) by removing S5(g). NHTSA is also amending S5(b)(2) to provide clearer language. The statement in S5(b)(2) will be changed from wording describing the CRS recommend weight and height as “up to 18 kilograms (40 pounds)” and “up to 1100 millimeters (mm)” to “less than 18 kilograms (40 pounds)” and “less than 1100 millimeters (mm),” respectively.

e. Registration Card Guidelines

JPMA requested guidance on the new registration information for consumers. JPMA suggested guidance could be in a revised Laboratory Test Procedure or a separate, dedicated document. JPMA argued that this guidance should be provided soon due to the short time period prior to the compliance date for the registration requirements.

Agency Response: NHTSA is denying the petition to provide additional guidance on the registration card. The petitioners requested guidance on the new registration information for consumers. This request is for not a rulemaking action, and, therefore, is out of scope.

NHTSA notes that the regulatory text describes the information that must be provided in the registration card. NHTSA did not receive any comments from CRS manufacturers seeking more guidance on this content. The goal of the changes to the registration form was to provide flexibility to manufacturers in how they communicate with consumers to increase registration rates. NHTSA notes that the registration forms that comply with current requirements would also comply with the new requirements.

IV. Corrections to Regulatory Text

In the frontal test upgrade final rule (88 FR 84515) published on December 5, 2023, NHTSA inadvertently omitted important conditional language in the FMVSS No. 213b regulatory text. The omitted language creates an inconsistency within the standard, and several stakeholders have contacted NHTSA's compliance office about this issue. The agency is correcting the regulatory text as part of this final rule to alleviate potential confusion.

In the frontal test upgrade final rule, the agency inadvertently omitted conditional language from FMVSS No. 213b S5.5.2(g)(1)(ii).²³ This paragraph and subsection were carried over from FMVSS No. 213. FMVSS No. 213 S5.5.2 specifies a labeling requirement for CRSs. Specifically, paragraph S5.5.2(g)(1)(ii) requires specific statements be present on the CRS explaining when and when not to secure the CRS with the vehicle's child restraint anchorage system. This section has several conditional requirements, including a requirement that a statement be present that the child restraint anchorage system should not be used in certain scenarios for CRSs manufactured from February 27, 2014, to February 26, 2015. The conditional language for this requirement—that the statement be present on CRSs manufactured in the time frame referenced above—appears in brackets in that paragraph of FMVSS No. 213.

²³ The bolded language represents the language that was omitted from FMVSS No. 213b: “[For child restraints manufactured from February 27, 2014 to February 26, 2015, the following statement applies.] Child restraint systems equipped with internal harnesses to restrain the child and with components to attach to a child restraint anchorage system and for which the combined weight of the child restraint system and the maximum recommended child weight for use with internal harnesses exceeds 65 pounds, must be labeled with the following statement: `Do not use the lower anchors of the child restraint anchorage system (LATCH system) to attach this child restraint when restraining a child weighing more than * [*insert a recommended weight value in English and metric units such that the sum of the recommended weight value and the weight of the child restraint system does not exceed 65 pounds (29.5 kg)] with the internal harnesses of the child restraint.' ”

In establishing FMVSS No. 213b as part of the frontal test upgrade, much of the language from FMVSS No. 213 was carried over to FMVSS No. 213b. The agency's intent was to carry over paragraph S5.5.2(g)(1)(ii) as drafted in FMVSS 213 to FMVSS No. 213b. That did not happen, as the parenthetical indicating that the final labeling requirement in S5.5.2(1)(ii) only applied to seats manufactured between February 27, 2014, and February 26, 2015, was not carried over. The result of that omission is that CRSs certified to FMVSS No. 213b now must include the statement instructing consumers when not to use the child restraint anchorage system, regardless of when the CRS was manufactured. This requirement creates inconsistency within the standard, as Tables S5.5.2(L)(3)(I)(B) and (C) provide different labeling requirements for the maximum weight limit for child restraint anchorage system use. For newly manufactured CRSs, these tables are what manufacturers should rely on in determining labeling requirements for weight thresholds for child restraint anchorage systems. However, because the conditional language was omitted from paragraph S5.5.2(g)(1)(ii), there are now two conflicting labeling requirements for newly produced CRSs.

This outcome is not what the agency intended, and the current language creates contradictory requirements within the standard. The agency believes that alleviating confusion with the standard will make it easier for manufacturers to comply with the standard. Additionally, this amendment will improve safety outcomes, as the current language would likely require that manufacturers have contradictory language printed on labels attached to CRSs. This conflicting language will only lead to confusion on the part of the consumer and may increase misuse rates. For the reasons listed above, NHTSA is amending FMVSS No. S5.5.2(g)(1)(ii) by removing the last requirement listed in FMVSS No. S5.5.2(g)(1)(ii). We believe this is the proper way to address the issue discussed above, as no CRSs certified to FMVSS No. 213b will have been manufactured between 2014 and 2015. Accordingly, there is no reason to have a labeling requirement in FMVSS No. 213b that applies only to seats produced during that time frame.

V. Costs and Benefits

The agency expects no safety benefits as a result of this final rule. However, it is worth noting that the agency believes addressing the inconsistency in current labeling requirements in FMVSS No. 213b will only result in positive safety outcomes. There will be a cost reduction from removing requirements to test CRS secured with Type 1 seat belts. The December 2023 final rule estimated a temporary annual testing cost with Type 1 seat belts for 3 years of $5,198,000. This final rule will eliminate the estimated Type 1 seat belt installation test cost in FMVSS No. 213b.

VI. Compliance Date and Effective Date

Because the amendments of this final rule responding to petitions for reconsideration are minor corrections, these amendments will be effective on November 8, 2024. The amendments will follow the compliance dates for the corresponding sections.

VII. Regulatory Analyses and Notices

Executive Order (E.O.) 12866, E.O. 14904, E.O. 13563 and DOT Regulatory Policies and Procedures

NHTSA has considered the potential impact of this final rule under E.O. 12866, E.O. 14094, E.O. 13563, DOT Order 2100.6A and the Department of Transportation's regulatory policies and procedures. This NPRM is not considered to be significant under the Department of Transportation's regulatory policies and procedures.²⁴

²⁴ 44 FR 11034 (Feb. 26, 1979).

This final rule responds to petitions for reconsideration to the June 2022 final rule establishing FMVSS No. 213a and the December 2023 final rule establishing FMVSS No. 213b. This final rule makes several changes to FMVSS No. 213, FMVSS No. 213a and FMVSS No. 213b; specifically, the minor changes provide increased clarity on what the standard requires and bring increased uniformity across the three standards. An additional amendment eliminates the Type 1 belt testing requirement for FMVSS No. 213 through 2029; instead the agency will only be testing with a Type 2 belt starting in 2026. Accordingly, the agency updated the costs in preparation of this final rule. The agency estimates a savings of $5,198,000 compared to the final rule because manufacturers will not have to conduct tests with Type 1 belts from 2026 through 2029. More information can be found in the “Discussion of Benefits and Costs Associated with the Final Rule” section above.

The minimal impacts of this final rule did not warrant preparation of a regulatory evaluation.

Regulatory Flexibility Act

Pursuant to the Regulatory Flexibility Act (5 U.S.C. 601 et seq., as amended by the Small Business Regulatory Enforcement Fairness Act (SBREFA) of 1996), whenever an agency is required to publish a notice of proposed rulemaking or final rule, it must prepare and make available for public comment a regulatory flexibility analysis that describes the effect of the rule on small entities (i.e., small businesses, small organizations and small governmental jurisdictions), unless the head of an agency certifies the rule will not have a significant economic impact on a substantial number of small entities. Agencies must also provide a statement of the factual basis for this certification.

I certify that this rule will not have a significant economic impact on a substantial number of small entities. NHTSA estimates there to be 38 manufacturers of child restraints, none of which are small businesses. Even if there were a small CRS manufacturer, the impacts of this rule will not be significant. The amendments made in this final rule are small, and if anything, the impact of the final rule will result in a net savings for a small business CRS manufacturer, due to the fact that it would not have to conduct testing with a Type 1 belt from 2026 through 2029 to ensure compliance with FMVSS No. 213.

Federalism

NHTSA has examined this final rule pursuant to E.O. 13132 (64 FR 43255, August 10, 1999) and concluded that no additional consultation with States, local governments or their representatives is mandated beyond the rulemaking process. The agency has concluded that the rulemaking would not have sufficient federalism implications to warrant consultation with State and local officials or the preparation of a federalism summary impact statement. This final rule would not have “substantial direct effects on the States, on the relationship between the national government and the States, or on the distribution of power and responsibilities among the various levels of government.”

NHTSA rules can have preemptive effect in two ways. First, the National Traffic and Motor Vehicle Safety Act contains an express preemption provision stating that, if NHTSA has established a standard for an aspect of motor vehicle or motor vehicle equipment performance, a State may only prescribe or continue in effect a standard for that same aspect of performance if the State standard is identical to the Federal standard. 49 U.S.C. 30103(b)(1). It is this statutory command by Congress that preempts any non-identical State legislative and administrative law addressing the same aspect of performance.

The express preemption provision described above is subject to a savings clause under which “[c]ompliance with a motor vehicle safety standard prescribed under this chapter does not exempt a person from liability at common law.” 49 U.S.C. 30103(e). Pursuant to this provision, State common law tort causes of action against motor vehicle manufacturers that might otherwise be preempted by the express preemption provision are generally preserved.

NHTSA rules can also preempt State law if complying with the FMVSS would render the motor vehicle manufacturers liable under State tort law. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted. See Geier v. American Honda Motor Co., 529 U.S. 861 (2000).

Pursuant to E.O. 13132, NHTSA has considered whether this final rule could or should preempt State common law causes of action. The agency's ability to announce its conclusion regarding the preemptive effect of one of its rules reduces the likelihood that preemption will be an issue in any subsequent tort litigation. To this end, the agency has examined the nature (e.g., the language and structure of the regulatory text) and objectives of this final rule and finds that this final rule, like many NHTSA rules, prescribes only a minimum safety standard. Accordingly, NHTSA does not intend that this final rule preempt state tort law that would effectively impose a higher standard on motor vehicle manufacturers than that established by this final rule. Establishment of a higher standard by means of State tort law would not conflict with the minimum standard finalized in this document. Without any conflict, there could not be any implied preemption of a State common law tort cause of action.

National Environmental Policy Act (NEPA)

NHTSA has analyzed this NPRM for the purposes of the NEPA. The agency has determined that implementation of this action would not have any significant impact on the quality of the human environment.

Paperwork Reduction Act (PRA)

Under the procedures established by the PRA of 1995 (44 U.S.C. 3501, et seq.), a Federal agency must request and receive approval from the Office of Management and Budget (OMB) before it collects certain information from the public and a person is not required to respond to a collection of information by a Federal agency unless the collection displays a valid OMB control number.

The final rule amending FMVSS No. 213 (88 FR 84514) included updates to NHTSA's CRS registration requirements, which constituted an information collection. Included in that final rule was a notice soliciting comment on the information collection associated with the updated CRS registration requirements (OMB Control Number: 2127-0576). No comments were received. NHTSA will submit the Information Collection Request to OMB for its review and approval of the revised collection of information.

This final rule amends the CRS registration requirements adopted in the frontal test upgrade final rule by pushing the compliance date back to June of 2025. The change in the compliance date does not impact the information collection burden outlined in the frontal test upgrade final rule and none of the other amendments in this final rule create “collections of information” as defined at 5 CFR 1320.3(c)).

Unfunded Mandates Reform Act (UMRA)

The UMBRA of 1995 requires Federal agencies to prepare a written assessment of the costs, benefits and other effects of proposed or final rules that include a Federal mandate likely to result in the expenditure by State, local or tribal governments, in the aggregate, or by the private sector, of more than $100 million annually (adjusted annually for inflation, with base year of 1995). UMRA also requires an agency issuing an NPRM or final rule subject to the Act to select the “least costly, most cost-effective or least burdensome alternative that achieves the objectives of the rule.” This final rule would not result in a Federal mandate that will likely result in the expenditure by State, local or tribal governments, in the aggregate, or by the private sector, of more than $100 million annually (adjusted annually for inflation, with base year of 1995).

E.O. 12778 (Civil Justice Reform)

When promulgating a regulation, agencies are required under E.O. 12988 to make every reasonable effort to ensure that the regulation, as appropriate: (1) specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

Pursuant to this Order, NHTSA notes as follows. The preemptive effect of this final rule is discussed above. NHTSA notes further that there is no requirement that an individual submit a petition for reconsideration or pursue other administrative proceedings before they may file suit in court.

National Technology Transfer and Advancement Act (NTTAA)

Under the NTTAA of 1995 (Pub. L. 104-113), “all Federal agencies and departments shall use technical standards that are developed or adopted by voluntary consensus standards bodies, using such technical standards as a means to carry out policy objectives or activities determined by the agencies and departments.” Voluntary consensus standards are technical standards (e.g., materials specifications, test methods, sampling procedures and business practices) that are developed or adopted by voluntary consensus standards bodies, such as the International Organization for Standardization and the Society of Automotive Engineers. The NTTAA directs this agency to provide Congress, through OMB, explanations when we decide not to use available and applicable voluntary consensus standards. There are no voluntary consensus standards developed by voluntary consensus standards bodies pertaining to this final rule.

Plain Language Requirement

E.O. 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

NHTSA has considered these questions and attempted to use plain language in promulgating this final rule. Please inform the agency if you can suggest how NHTSA can improve its use of plain language.

Regulatory Identifier Number (RIN)

The DOT assigns a RIN to each regulatory action listed in the Unified Agenda of Federal Regulations. The Regulatory Information Service Center publishes the Unified Agenda in April and October of each year. The RIN contained in the heading at the beginning of this notice may be used to find this action in the Unified Agenda.

Privacy Act

In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. Anyone can search the electronic form of all comments received into any of our dockets by the name of the individual submitting the comment (or signing the comment, if submitted on behalf of an association, business, labor union, etc.). You may review DOT's complete Privacy Act Statement in the Federal Register published on April 11, 2000 (Volume 65, Number 70; Pages 19477-78).

List of Subjects in 49 CFR Part 571

Imports, Incorporation by Reference, Motor vehicle safety, Motor vehicles, and Tires.

Regulatory Text

In consideration of the foregoing, NHTSA amends 49 CFR part 571 as set forth below.

PART 571—FEDERAL MOTOR VEHICLE SAFETY STANDARDS

1. The authority citation for part 571 continues to read as follows:

Authority: 49 U.S.C. 322, 30111, 30115, 30117 and 30166; delegation of authority at 49 CFR 1.95.

2. Section 571.213 is amended by

a. In paragraph S4, revising the definition of “School bus child restraint system”;

b. In paragraph S5.1.1 revising the introductory text and paragraph (a);

c. Revising the headings of table 1 and table 2 to S5.1.3.1(a);

d. Revising paragraphs S5.2.4, S5.3.2.1, S5.5.2(f) introductory text, S5.5.2(f)(2), S5.5.2(g)(1)(i) and (ii),

e. Adding paragraph S5.5.2(l)(2);

f. Revising paragraphs S5.6.1.7(a) introductory text, S5.6.1.7(b), S5.6.1.11, S5.6.2.2(a) introductory text, S5.6.2.2(b), S5.8.1(a), S5.8.1.1 introductory text, S5.8.2(a) introductory text, and S5.8.2.1 introductory text.

The addition and revisions read as follows:

§ 571.213 Child restraint systems; Applicable unless a vehicle or child restraint system is certified to § 571.213b.

* * * * *

S4. Definitions

* * * * *

School bus child restraint system means an add-on child restraint system (including a harness) manufactured and sold only for use on school bus seats, that has a label conforming with S5.3.1(b). (This definition applies to child restraint systems manufactured on or after June 30, 2025.)

* * * * *

S5.1.1 Child restraint system integrity. When tested in accordance with S6.1, each child restraint system shall meet the requirements of paragraphs (a) through (c) of this section.

(a) Exhibit no complete separation of any load bearing structural element and no partial separation exposing either surfaces with a radius of less than 6 mm or surfaces with protrusions greater than 9 mm above the immediate adjacent surrounding contactable surface of any structural element of the system.

* * * * *

Table 1 to S5.1.3.1(a)—Add-On Child Restraints that Can Be Used Forward-Facing Manufactured Before June 30, 2025

* * * * *

Table 2 to S5.1.3.1(a)—Add-On Child Restraints That Can Be Used Forward-Facing Manufactured After June 30, 2025

* * * * *

S5.2.4 Protrusion limitation. Any portion of a rigid structural component within or underlying a contactable surface, or any portion of a child restraint system surface that is subject to the requirements of S5.2.3 shall, with any padding or other flexible overlay material removed, have a height above any immediately adjacent restraint system surface of not more than 9 mm and no exposed edge with a radius of less than 6 mm.

* * * * *

S5.3.2.1 School bus child restraint systems manufactured on or after June 30, 2025, shall be capable of meeting the requirements of this standard when installed by seat back mount, or, seat back mount and seat pan mount.

* * * * *

S5.5.2 * * *

(f) For child restraint systems manufactured before June 30, 2025, paragraph (f)(1) of this section applies. For child restraint systems manufactured on or after June 30, 2025, paragraph (f)(2) of this section applies.

* * * * *

(2) For child restraint systems manufactured on or after June 30, 2025: Statements or a combination of statements and pictograms specifying the manufacturer's recommendations for the mass and height ranges (in English and metric units) of children who can safely occupy the system in each applicable mode (rear-facing, forward facing, booster), except manufacturers shall not recommend forward-facing use for child restraint systems with internal harnesses for children of masses less than 12 kg (26.5 lb), and shall not recommend booster seats for children of masses less than 18 kg (40 lb).

(g) * * *

(1) * * *

(i) As appropriate, the statements required by the following sections will be bulleted and placed after the statement required by 5.5.2(g)(1) in the following order: 5.5.2(k)(1), 5.5.2(h), 5.5.2(j), and 5.5.2(i). For child restraint systems manufactured on or after June 30, 2025, the statements required by 5.5.2(f) and 5.5.2(k)(2) need not be included.

(ii) Secure this child restraint with the vehicle's child restraint anchorage system, if available, or with a vehicle belt. [For car beds, harnesses, and belt positioning seats, the first part of the statement regarding attachment by the child restraint anchorage system is optional.] [For belt-positioning seats, the second part of the statement regarding attachment by the vehicle belt does not apply.]

* * * * *

S5.5.2 * * *

(l) * * *

(2) A seating position equipped with only a lap belt, as specified in the manufacturer's instructions; and

* * * * *

S5.6.1.7. (a) For child restraint systems manufactured before June 30, 2025, one of the following statements, inserting an address and a U.S. telephone number. If a manufacturer opts to provide a website on the registration card as permitted in Figure 9a of this section, the manufacturer must include the statement in paragraph S5.6.1.7(a)(2):

* * * * *

(b) For child restraint systems manufactured on or after June 30, 2025, the child restraint system shall include statements informing the owner of the importance of registering the child restraint for recall purposes and instructing the owner how to register the child restraint at least by mail and by telephone, providing a U.S. telephone number. The following statement must also be provided: “For recall information, call the U.S. Government's Vehicle Safety Hotline at 1-888-327-4236 (TTY: 1-800-424-9153), or go to www.NHTSA.gov.”

* * * * *

S5.6.1.11 (a) For harnesses that are manufactured before June 30, 2025, for use on school bus seats, the instructions must include the following statement: “WARNING! This restraint must only be used on school bus seats. Entire seat directly behind must be unoccupied or have restrained occupants.” The labeling requirement refers to a restrained occupant as: an occupant restrained by any user appropriate vehicle restraint or child restraint system (e.g., lap belt, lap and shoulder belt, booster, child seat, harness . . .).

(b) For school bus child restraint systems manufactured on or after June 30, 2025, the instructions must include the following statement: “WARNING! This restraint must only be used on school bus seats. Entire seat directly behind must be unoccupied or have restrained occupants.” (The instruction's reference to a “restrained occupant” refers to an occupant restrained by any user-appropriate vehicle restraint or child restraint system (e.g., lap belt, lap and shoulder belt, booster seat or other child restraint system.)

* * * * *

S5.6.2.2. (a) For child restraint systems manufactured before June 30, 2025, the instructions for each built in child restraint system other than a factory-installed restraint, shall include one of the following statements, inserting an address and a U.S. telephone number. If a manufacturer opts to provide a website on the registration card as permitted in Figure 9a of this section, the manufacturer must include the statement in S5.6.2.2(a)(2):

* * * * *

(b) For child restraint systems manufactured on or after June 30, 2025, the instructions for each built-in child restraint system other than a factory-installed restraint shall include statements informing the owner of the importance of registering the child restraint for recall purposes and instructing the owner how to register the child restraint at least by mail and by telephone, providing a U.S. telephone number. The following statement must also be provided: “For recall information, call the U.S. Government's Vehicle Safety Hotline at 1-888-327-4236 (TTY: 1-800-424-9153), or go to www.NHTSA.gov.”

* * * * *

S5.8.1 Attached registration form. (a) For child restraint systems manufactured before June 30, 2025, each child restraint system, except a factory-installed built-in restraint system, shall have a registration form attached to any surface of the restraint that contacts the dummy when the dummy is positioned in the system in accordance with S6.1.2 of Standard 213.

* * * * *

S5.8.1.1 Upgraded attached registration form. For child restraint systems manufactured on or after June 30, 2025, each child restraint system, except a factory-installed built-in restraint system, shall have a registration form attached to any surface of the restraint that contacts the dummy when the dummy is positioned in the system in accordance with S6.1.2 of Standard 213. The form shall not have advertising or any information other than that related to registering the child restraint system.

* * * * *

S5.8.2 * * *

(a) Each electronic registration form provided for child restraint systems manufactured before June 30, 2025, shall:

* * * * *

S5.8.2.1 Upgraded electronic registration form (a) Each electronic registration form provided for child restraint systems manufactured on or after June 30, 2025, shall:

* * * * *

3. Section 571.213a is amended by revising paragraphs S6.1.1(a)(1), S9.2(d), and S9.3(d) to read as follows:

§ 571.213a Standard No. 213a; Child restraint systems—side impact protection.

* * * * *

S6.1.1 * * *

(a) * * *

(1) The test device is a SISA consisting of a sliding seat, with one seating position, and a simulated door assembly as described in “NHTSA Standard Seat Assembly; FMVSS No. 213a—Side impact No. NHTSA-213a-2021” (incorporated by reference, see § 571.5). The simulated door assembly is rigidly attached to the floor of the SISA and the sliding seat is mounted on rails to allow it to move relative to the floor of the SISA in the direction perpendicular to the SORL. The SISA is mounted on a dynamic test platform so that the SORL of the seat is 10 ±1 degrees from the perpendicular direction of the test platform travel.

* * * * *

S9.2 * * *

(d) After the steps specified in paragraph (c) of this section, rotate each of the dummy's legs downwards in the plane parallel to the dummy's midsagittal plane until the limb contacts a surface of the child restraint or the SISA. Rotate each of the dummy's arms downwards in the plane parallel to the dummy's midsagittal plane until the arm is engaged on the detent that positions the arm at a 25-degree angle with respect to the thorax. For child restraint systems with a fixed or movable surface that does not allow the dummy's arm to be positioned at a 25-degree angle, rotate each dummy arm downwards in the plane parallel to the dummy's midsagittal plane until the arm contacts a surface of the child restraint system or the standard seat assembly.

S9.3 * * *

(d) After the steps specified in paragraph (c) of this section, rotate each dummy arm downwards in the plane parallel to the dummy's midsagittal plane until the limb is positioned at a 25-degree angle with respect to the thorax. For child restraint systems with a fixed or movable surface that does not allow the dummy's arm to be positioned at a 25-degree angle, rotate each dummy arm downwards in the plane parallel to the dummy's midsagittal plane until the arm contacts a surface of the child restraint system or the standard seat assembly.

* * * * *

4. Section 571.213b is amended by

a. Revising paragraph S5(b)(2);

b. Removing paragraph S5(g);

c. Revising paragraphs S5.1.1 introductory text, S5.1.1.(a), table 2 in paragraph S5.1.3.1(a), S5.2.4, table 4 in paragraph S5.3.2, S5.5.2(f), S5.5.2(g)(1)(ii), S5.5.5(f), and S7.1.2(d) and (e).

The revisions read as follows:

§ 571.213b Standard No. 213b; Child restraint systems; Mandatory applicability beginning December 5, 2026.

* * * * *

S5 * * *

(b) * * *

(2) Each add-on child restraint system manufactured for use in motor vehicles, that is recommended for children in a weight range that includes weights less than 18 kilograms (40 pounds) regardless of height, or for children in a height range that includes heights less than 1100 millimeters (mm) regardless of weight, shall meet the requirements in this standard and the applicable side impact protection requirements in Standard No. 213a (§ 571.213a).

* * * * *

S5.1 * * *

S5.1.1 Child restraint system integrity. When tested in accordance with S6.1, each child restraint system shall meet the requirements of paragraphs (a) through (c) of this section.

(a) Exhibit no complete separation of any load bearing structural element and no partial separation exposing either surfaces with a radius of less than 6 mm or surfaces with protrusions greater than 9 mm above the immediate adjacent surrounding contactable surface of any structural element of the system.

* * * * *

S5.1.3.1 * * *

(a) * * *

Table 2 to S5.1.3.1(a)—Add-On Child Restraints That Can Be Used Forward-Facing
When this type of child restraint system | Is tested in accordance with— | These excursion limits apply | Explanatory note: in the test specified in 2nd column, the excursion requirement must be met when the child restraint system is attached to the test seat assembly in the manner described below, subject to certain conditions
All harnesses | S6.1.2(a)(1)(i)(A) | Head 813 mm; Knee 915 mm | Attached with lap belt; in addition, if a tether is provided, it is attached.
Restraints designed for use by children with physical disabilities | S6.1.2(a)(1)(i)(A) | Head 813 mm; Knee 915 mm | Attached with lap and shoulder belt; in addition, if a tether is provided, it is attached.
School bus child restraint systems | S6.1.2(a)(1)(i)(A) | Head 813 mm; Knee 915 mm | Attached with seat back mount, or seat back and seat pan mounts.
Booster seats | S6.1.2(a)(1)(ii) | Head 813 mm; Knee 915 mm | Attached with lap and shoulder belt; no tether is attached.
Child restraint systems other than harnesses, restraints designed for use by children with physical disabilities, school bus child restraint systems, and booster seats | S6.1.2(a)(1)(i)(B) | Head 813 mm; Knee 915 mm | Attached with a lap and shoulder belt; without a tether attached. Attached to lower anchorages of child restraint anchorage system; without a tether attached.
Child restraint systems other than harnesses, restraints designed for use by children with physical disabilities, school bus child restraint systems | S6.1.2(a)(1)(i)(A), S6.1.2(a)(1)(i)(C) | Head 720 mm; Knee 915 mm | Attached with a lap and shoulder belt, with a tether attached. Attached to lower anchorages of child restraint anchorage system, with a tether attached.
Child restraint systems equipped with a fixed or movable surface described in S5.2.2.2 that has belts that are not an integral part of that fixed or movable surface | S6.1.2(a)(2) | Head 813 mm; Knee 915 mm | Attached with lap and shoulder belt or lower anchorages of child restraint anchorage system; no tether is attached.

* * * * *

S5.2.4 Protrusion limitation. Any portion of a rigid structural component within or underlying a contactable surface, or any portion of a child restraint system surface that is subject to the requirements of S5.2.3 shall, with any padding or other flexible overlay material removed, have a height above any immediately adjacent restraint system surface of not more than 9 mm and no exposed edge with a radius of less than 6 mm.

* * * * *

S5.3.2 * * *

Table 4 for S5.3.2 Means of Installation for Child Restraint Systems
Type of add-on child restraint system | Type 1 seat belt assembly plus a tether anchorage, if needed | Type 2 seat belt assembly plus a tether anchorage, if needed | Type 2 seat belt assembly | Lower anchorages of the child restraint anchorage system plus a tether, if needed | Lower anchorages of the child restraint anchorage system | Seat back mount, or, seat back mount, and, seat pan mount
School bus child restraint systems |  |  |  |  |  | X
Harnesses | X |  |  |  |  |
Car beds |  |  | X |  |  |
Rear-facing restraints |  |  | X |  | X |
Booster seats |  |  | X |  |  |
All other child restraint systems |  | X | X | X | X |

* * * * *

S5.5.2 * * *

(f) Statements or a combination of statements and pictograms specifying the manufacturer's recommendations for the weight and height ranges (in English and metric units) of children who can safely occupy the system in each applicable mode (rear-facing, forward facing, booster), except manufacturers shall not recommend that child restraint systems with internal harnesses be used forward-facing with children of weights less than 12 kg (26.5 lb), and shall not recommend that booster seats be used by children of weights less than 18 kg (40 lb).

(g) * * *

(1) * * *

(ii) Secure this child restraint with the vehicle's child restraint anchorage system, if available, or with a vehicle belt. [For car beds, harnesses, and belt positioning seats, the first part of the statement regarding attachment by the child restraint anchorage system is optional.] [For belt-positioning seats, the second part of the statement regarding attachment by the vehicle belt does not apply.]

* * * * *

S5.5.5 * * *

(f) Statements or a combination of statements and pictograms specifying the manufacturer's recommendations for the weight and height ranges (in English and metric units) of children who can safely occupy the system in each applicable mode (rear-facing, forward facing, booster), except manufacturers shall not recommend forward-facing child restraint systems with internal harnesses for children of weights less than 12 kg (26.5 lb), and shall not recommend booster seats for children of weights less than 18 kg (40 lb).

* * * * *

S7.1.2 * * *

(d) A child restraint system that is recommended by its manufacturer in accordance with S5.5 for use either by children in a specified weight range that includes any children having a weight greater than 13.6 kg (30 lb) but not greater than 18 kg (40 lb) regardless of height, or by children in a specified height range that includes any children whose height is greater than 870 mm but not greater than 1100 mm regardless of weight, is tested with a 49 CFR part 572, subpart P dummy (Hybrid III 3-year-old dummy).

(e) A child restraint system that is recommended by its manufacturer in accordance with S5.5 for use either by children in a specified weight range that includes any children having a weight greater than 18 kg (40 lb) but not greater than 22.7 kg (50 lb) regardless of height, or by children in a specified height range that includes any children whose height is greater than 1100 mm but not greater than 1250 mm regardless of weight, is tested with a 49 CFR part 572, subpart N dummy (Hybrid III 6- year-old dummy).

* * * * *

Issued under authority delegated in 49 CFR 1.95 and 501.5.
Sophie Shulman,
Deputy Administrator.

[FR Doc. 2024-22448 Filed 10-8-24; 8:45 am]

BILLING CODE 4910-59-P